DEPARTMENT OF HEALTH AND HUMAN SERVICES

National Institutes of Health

Public Workshop—Iron Screening and Supplementation of Iron‐Replete Pregnant Women and Young Children

SUMMARY: The Office of Dietary Supplements at the National Institutes of Health (NIH) is sponsoring an open public workshop titled, “Iron Screening and Supplementation of Iron-replete Pregnant Women and Young Children,” September 28-29, 2016, on the NIH main campus in Bethesda, Maryland. It will also be available to be viewed live or later on-demand as a videocast. The workshop discussions will focus on the U.S. and developed countries and will serve to specify data gaps and research needs by (1) exploring current understanding of iron homeostasis in pregnant women and in young children (6‐24 months); (2) identifying the challenges associated with measuring iron status and with screening practices; and (3) considering emerging issues associated with routine supplementation of iron‐replete individuals. All persons are invited to attend, especially clinical educators, those who develop clinical recommendations, health care providers and researchers. Persons wishing to attend are required to register in advance of the conference.

DATES: September 28-29, 2016; 8:30 to 5:15 p.m. (Eastern Time) on the first day and 8:00 to 12:30 p.m. on the second day.

ADDRESSES: National Institutes of Health, William H. Natcher Building; Natcher Conference Center, Building 45, Bethesda, Maryland, 20892.

FOR FURTHER INFORMATION CONTACT: Ms. Cindy Rooney, Office of Dietary Supplements, National Institutes of Health, 6100 Executive Boulevard, Room 3B01, Bethesda, MD 20892-7523, Email: rooneyc@mail.nih.gov.

SUPPLEMENTARY INFORMATION: The conference is sponsored by the NIH Office of Dietary Supplements along with co-sponsors from other federal agencies. Information about the conference agenda, registration procedures, and videocast arrangements can be found at: https://events-suport.com/events/NIH_Iron_Workshop.

Through its Iron Initiative, the National Institutes of Health (NIH) Office of Dietary Supplements leads efforts to advance scientific understanding of iron and health: https://ods.od.nih.gov/Research/Iron.aspx.

Dated: July 1, 2016.
Lawrence A. Tabak,
Deputy Director, National Institutes of Health.

[FR Doc. 2016-16254 Filed 7-7-16; 8:45 am]

BILLING CODE 4140-01-P